DEPARTMENT OF TRANSPORTATION

Federal Aviation Administration

14 CFR Part 39

[Docket No. 2001-CE-13-AD; Amendment 39-12745; AD 2002-09-12]

RIN 2120-AA64

Airworthiness Directives; Raytheon Aircraft Company Beech Model C90 Airplanes

AGENCY: Federal Aviation Administration, DOT.

ACTION: Final rule.

SUMMARY: This amendment adopts a new airworthiness directive (AD) that applies to certain Raytheon Aircraft Company (Raytheon) Beech Model C90 airplanes. This AD requires you to inspect the left-hand (LH) and right-hand (RH) nacelle and spar assembly for the existence of rivets, and requires you to install rivets if they do not exist or are the wrong size or type. This AD is the result of Raytheon identifying several instances where rivets were either missing or were the wrong size or type on these airplanes. The actions specified by this AD are intended to correct the installation of rivets in the LH and RH nacelle and spar assembly. These rivets must be present and have the correct dimension in order to prevent reduced structural integrity, which could result in structural failure and possible loss of control of the airplane.

DATES: This AD becomes effective on June 21, 2002.

The Director of the Federal Register approved the incorporation by reference of certain publications listed in the regulations as of June 21, 2002.

ADDRESSES: You may get the service information referenced in this AD from Raytheon Aircraft Company, P.O. Box 85, Wichita, Kansas 67201-0085; telephone: (800) 429-5372 or (316) 676-3140. You may view this information at the Federal Aviation Administration (FAA), Central Region, Office of the Regional Counsel, Attention: Rules Docket No. 2001-CE-13-AD, 901 Locust, Room 506, Kansas City, Missouri 64106; or at the Office of the Federal Register, 800 North Capitol Street, NW, suite 700, Washington, DC.

FOR FURTHER INFORMATION CONTACT: Steve Potter, Aerospace Engineer, FAA, Wichita Aircraft Certification Office, 1801 Airport Road, Mid-Continent Airport, Wichita, Kansas 67209; telephone: (316) 946-4124; facsimile: (316) 946-4407.

SUPPLEMENTARY INFORMATION:

Discussion

What Events Have Caused This AD?

Raytheon has identified several instances of rivets not being installed and/or the wrong size or type installed during the manufacturing process on the nacelles and spar assembly of the Model C90A airplanes. This conclusion is the result of a quality control problem.

At least 20 airplanes have been found with this condition. The number and location of the missing rivets and incorrectly installed rivets may vary from airplane to airplane.

What Is the Potential Impact if FAA Took No Action?

This condition, if not detected and corrected, could result in reduced structural integrity. This could lead to critical structural failure with consequent loss of airplane control.

Has FAA Taken Any Action to This Point?

We issued a proposal to amend part 39 of the Federal Aviation Regulations (14 CFR part 39) to include an AD that would apply to certain Raytheon Beech Model C90 airplanes. This proposal was published in the Federal Register as a notice of proposed rulemaking (NPRM) on November 26, 2001 (66 FR 58983). The NPRM proposed to require you to inspect the left-hand (LH) and right-hand (RH) nacelle and spar assembly for the existence of rivets and would require you to install rivets if they do not exist or are the wrong size or type.

Was the Public Invited To Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

Cost Impact

How Many Airplanes Does This AD Impact?

We estimate that this AD affects 381 airplanes in the U.S. registry.

What Is the Cost Impact of This AD on Owners/Operators of the Affected Airplanes?

We estimate the following costs to accomplish the inspection:

Labor cost | Parts cost | Total cost per airplane | Total cost on U.S. operators
35 workhours × $60 per hour = $2,100 | No parts required for the inspection | $2,100 | $2,100 × 381 = $800,100

We estimate the following costs to accomplish any necessary replacements that will be required based on the results of the inspection. We have no way of determining the number of airplanes that may need such replacements:

Labor cost | Parts cost | Total cost per airplane
40 workhours × $60 per hour = $2,400 | $50 | $2,400 + $50 = $2,450

The manufacturer will provide warranty credit for labor and parts to the extent noted under MANPOWER and MATERIAL in Raytheon Mandatory Service Bulletin SB 54-3308, Issued: October, 2000.

Compliance Time of This AD

Why Is the Compliance Time of This AD Presented in Both Hours Time-in-Service (TIS) and Calendar Time?

The unsafe condition on these airplanes is not a result of the number of times the airplane is operated. Airplane operation varies among operators. For example, one operator may operate the airplane 50 hours TIS in 3 months while it may take another 12 months or more to accumulate 50 hours TIS. For this reason, the FAA has determined that the compliance time of this AD should be specified in both hours time-in-service (TIS) and calendar time in order to assure this condition is not allowed to go undetected over time.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2002-09-12 Raytheon Aircraft Company: Amendment 39-12745; Docket No. 2001-CE-13-AD.

(a) What airplanes are affected by this AD? This AD affects the following Beech Model C90A airplanes that are certificated in any category:

Serial Numbers

LJ-1157 through LJ-1276, LJ-1278 through LJ-1537, and LJ-1540.

(b) Who must comply with this AD? Anyone who wishes to operate any of the airplanes identified in paragraph (a) of this AD must comply with this AD.

(c) What problem does this AD address? The actions specified by this AD are intended to correct the installation of rivets in the left-hand and right-hand nacelle and spar assembly. These rivets must be present and have correct dimensions in order to prevent reduced structural integrity, which could result in structural failure and possible loss of control of the airplane.

(d) What actions must I accomplish to address this problem? To address this problem, you must perform the following, unless already accomplished:

Actions | Compliance | Procedures
(1) Insert Raytheon Temporary Changes TC3 (Log of Temporary Changes) into the Limitations Section of the Pilot's Operating Handbook (POH) | Within the next 10 hours time-in-service (TIS) after June 21, 2002 (the effective date of this AD) until compliance with paragraphs (d)(2) and (d)(3) of this AD, unless already accomplished | Anyone who holds at least a private pilot certificate, as authorized by Section 43.7 of the Federal Aviation Regulations (14 CFR 43.7), may incorporate the pilot's operating handbook (POH) revision required by this AD. You must make an entry into the compliance with the aircraft records that shows compliance with this AD, in accordance with section 43.9 of the Federal Aviation Regulations (14 CFR 43.9).
(2) Inspect the left-hand (LH) and right-hand (RH) nacelle and spar assembly for the existence of rivets and installed rivets that are the wrong size and/or type | Within the next 400 hours time-in-service (TIS) or within 12 calendar months after June 21, 2002 (the effective date of this AD), whichever occurs first, unless already accomplished | In accordance with the Accomplishment Instructions section of Raytheon Mandatory Service Bulletin SB 54-3308, Issued: October, 2000, and the applicable maintenance manual.
(3) Install rivets where rivets are missing and replace rivets that are the wrong size and/or type with the correct rivet | Prior to further flight after the inspection required in paragraph (d)(2) of this AD, unless already accomplished | In accordance with the Accomplishment Instructions section of Raytheon Mandatory Service Bulletin SB 54-3308, Issued: October, 2000, and the applicable maintenance manual.

Note 1: Although not required by this AD, Raytheon Mandatory Service Bulletin SB 54-3308, Issued: October, 2000, recommends inspecting the airplane in accordance with the Hard Landing Inspection procedure, Chapter 5-50-00, Beech King Air 90 Maintenance Manual, if the airplane should experience a hard landing prior to the repair required by this AD. If serious structural damage occurred, contact Raytheon Technical Support for assistance.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note 2: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Steve Potter, Aerospace Engineer, FAA, Wichita Aircraft Certification Office, 1801 Airport Road, Mid-Continent Airport, Wichita, Kansas 67209; telephone: (316) 946-4124; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Raytheon Mandatory Service Bulletin SB 54-3308, Issued: October, 2000. The Director of the Federal Register approved this incorporation by reference under 5 U.S.C. 552(a) and 1 CFR part 51. You can get copies from Raytheon Aircraft Company, P.O. Box 85, Wichita, Kansas 67201-0085. You can look at copies at the FAA, Central Region, Office of the Regional Counsel, 901 Locust, Room 506, Kansas City, Missouri, or at the Office of the Federal Register, 800 North Capitol Street, NW, suite 700, Washington, DC.

(i) When does this amendment become effective? This amendment becomes effective on June 21, 2002.

Issued in Kansas City, Missouri, on April 30, 2002.
Michael Gallagher,
Manager, Small Airplane Directorate, Aircraft Certification Service.

[FR Doc. 02-11333 Filed 5-8-02; 8:45 am]

BILLING CODE 4910-13-P